DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 219-9657. For information on HRSA's role in the Program, contact the Director, National Vaccine Injury Compensation Program, 5600 Fishers Lane, Room 8A-46, Rockville, MD 20857; (301) 443-6593.

SUPPLEMENTARY INFORMATION: The Program provides a system of no-fault compensation for certain individuals who have been injured by specified childhood vaccines. Subtitle 2 of title XXI of the PHS Act, 42 U.S.C. 300aa-10 et seq., provides that those seeking compensation are to file a petition with the U.S. Court of Federal Claims and to serve a copy of the petition on the Secretary of Health and Human Services, who is named as the respondent in each proceeding. The Secretary has delegated her responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on July 7, 2000, through September 27, 2000.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Director, Bureau of Health Professions, 5600 Fishers Lane, Room 8-05, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Cathryn Audet on behalf of Joshiah Audet, Portland, Maine, Court of Federal Claims Number 00-0376V

2. Kriste Sweeney, Chicago, Illinois, Court of Federal Claims Number 00-0378V

3. Chandria and Lonnie Finley on behalf of Dylon Tyler Finley, Pueblo, Colorado, Court of Federal Claims Number 00-0405V

4. Colleen Patricia Berry, Reston, Virginia, Court of Federal Claims Number 00-0407V

5. Margaret D. Millar, Moline, Illinois, Court of Federal Claims Number 00-0409V

6. Deena and Tony Beard on behalf of Aaron Beard, Louisville, Kentucky, Court of Federal Claims Number 00-0417V

7. Anthony Tedesco, Mt. Clemens, Michigan, Court of Federal Claims Number 00-0419V

8. Gwennette Grisson on behalf of Melik Swans, Philadelphia, Pennsylvania, Court of Federal Claims Number 00-0421V

9. Kelly and William Gertz on behalf of Morgan Gertz, Deceased, Loveland, Colorado, Court of Federal Claims Number 00-0422V

10. Kwok Yam Lee on behalf of Michael Kak-Sin Lee, Oakland, California, Court of Federal Claims Number 00-0423V

11. Heather George on behalf of Kelcey L. Gomez, Grand Haven, Michigan, Court of Federal Claims Number 00-0425V

12. Patricia and Andrew Walther on behalf of Patricia Ann Walther, Fort Stewart, Georgia, Court of Federal Claims Number 00-0426V

13. Melissa Jessee on behalf of Justin Jessee, Norton, Virginia, Court of Federal Claims Number 00-0448V

14. Thomas A. Esnough on behalf of Thomas A. Esnough, Jr., Omaha, Nebraska, Court of Federal Claims Number 00-0450V

15. Tina and Raymond Dilts on behalf of Jacob T. Dilts, Chesapeake, Virginia, Court of Federal Claims Number 00-0464V

16. Allison and James Jackson on behalf of Korey Lynn Jackson, Coral, Florida, Court of Federal Claims Number 00-0469V

17. Marion Tanner on behalf of Aaron Tanner, Nederland, Texas, Court of Federal Claims Number 00-0470V

18. Dawn White on behalf of Michael White, Houston, Texas, Court of Federal Claims Number 00-0476V

19. Josephine and Alma Leithead on behalf of Julian Leithead, Deceased, Springerville, Arizona, Court of Federal Claims Number 00-0481V

20. Darlene Goodman on behalf of Tiffany Goodman, Deceased, Babylon, New York, Court of Federal Claims Number 00-0484V

21. Carolyn Collins-Anthonsen, Dolton, Illinois, Court of Federal Claims Number 00-0485V

22. Leticia E. Vega-Christiansen, Antioch, California, Court of Federal Claims Number 00-0488V

23. Jacque and Dick Ransom on behalf of Jasper Maulden, Deceased, Rockingham, North Carolina, Court of Federal Claims Number 00-0494V

24. Stephanie Tedesco on behalf of Bianca Tedesco, Danbury, Connecticut, Court of Federal Claims Number 00-0511V

25. Patricia and Paul Bell on behalf of Katherine Bell, Miami, Florida, Court of Federal Claims Number 00-0515V

26. Danielle Beers, Fort Wainwright, Alaska, Court of Federal Claims Number 00-0530V

27. Maria Cristina Veliz on behalf of Joshua Guerra, Miami, Florida, Court of Federal Claims Number 00-0535V

28. Stacy and Frank Stratman on behalf of Hayden Stratman, Vienna, Virginia, Court of Federal Claims Number 00-0536V

29. Alicia Alba on behalf of Raymond Alba, Vienna, Virginia, Court of Federal Claims Number 00-0537V

30. Shannon and Gary White on behalf of Mitchel Trenton White, Kalispell, Montana, Court of Federal Claims Number 00-0546V

31. Pamela J. Curtis, Houston, Texas, Court of Federal Claims Number 00-0548V

32. Cheryl and Michael Kulkusky on behalf of Kody Kulkusky, Taneytown, Maryland, Court of Federal Claims Number 00-0549V

33. Becky and Gregory Lilly on behalf of Trent Malcolm Lilly, Portage, Michigan, Court of Federal Claims Number 00-0550V

34. Christopher Peeler on behalf of Robert Peeler, Indianapolis, Indiana, Court of Federal Claims Number 00-0552V

35. Malicia Lorraine and Gladstone Tulloch on behalf of Natalia Destiny Tulloch, Deceased, Orlando, Florida, Court of Federal Claims Number 00-0556V

36. Susan and Robert Vignato on behalf of Anthony Dean Vignato, Sterling, Virginia, Court of Federal Claims Number 00-0562V

37. Carolann Dougherty on behalf of Roseann Dougherty, Vienna, Virginia, Court of Federal Claims Number 00-0570V

38. Jane and Marc Jaszewski on behalf of Jillian Marie Jaszewski, St. Paul, Minnesota, Court of Federal Claims Number 00-0581V

Dated: January 8, 2001.
Claude Earl Fox,
Administrator.

[FR Doc. 01-1057 Filed 1-11-01; 8:45 am]

BILLING CODE 4160-15-P